DEPARTMENT OF THE INTERIOR

National Park Service

National Register of Historic Places; Notification of Pending Nominations

Nominations for the following properties being considered for listing in the National Register were received by the National Park Service before April 1, 2000. Pursuant to section 60.13 of 36 CFR part 60, written comments concerning the significance of these properties under the National Register criteria for evaluation may be forwarded to the National Register, National Park Service, 1849 C St. NW, NC400, Washington, DC 20240. Written comments should be submitted by April 24, 2000.

Beth M. Boland,
Acting Keeper of the National Register.

ILLINOIS

Adams County

Quincy Northwest Historic District, Roughly bounded by Broadway, N. Secod, Locust, and N. Twelfth Sts., Quincy, 00000414

Champaign County

Library—University of Illinois at Urbana-Champaign, (University of Illinois Buildings designed by Charles A. Platt MPS) 1408 W. Gregory Dr., Urbana, 00000413

Kane County

Spring—Douglas Historic District, Roughly Spring St. and Douglas Ave., bet. River Bluff Rd. and Kimball Ave. Elgin, 00000410

Kankakee County

Illinois Central Railroad Depot, 199 S. East Ave., Kankakee, 00000409

Windrose Site, Address Restricted, Bourbonnais, 00000412

Sangamon County

Fisher Building—Latham Block, 111, 113, and 115 N. Sixth St., Springfield, 00000411

MASSACHUSETTS

Hampshire County

Goodwin Memorial African Methodist Episcopal Zion Church, Woodside Ave., Amherst, 00000416

Suffolk County

Harvard Avenue Historic District, Roughly bounded by Linden St., Commonwealth Ave., Harvard Ave., and Park Vale Ave., Boston, 00000415

NEW YORK

Saratoga County

Arrowhead Casino Prehistoric Site, (Saratoga Lake-Fish Creek Area Archeological Sites MPS) Address Restricted, Saratoga Springs, 00000418

NORTH CAROLINA

Davidson County

First Reformed Church, 22 E. Center S., Lexington, 00000417

OHIO

Cuyahoga County

Falls River Rd., Falls Rd., Chagrin Falls, 00000421

Henn, Albert W., Mansion, 23131 Lake Shore Blvd., Euclid, 00000422

Morrow County

Benedict, Reuben, House, 1463 Cty. Rd. 24, Marengo, 00000419

Tuscarawas County

Lanning, T., & Co. Department Store,

226-228 Grant St., Dennison, 00000420

PUERTO RICO

Hormigueros Municipality

Torrens Bridge, (Spanish-American War in Puerto Rico MPS) PR 319., Hormigueros, 00000423

[FR Doc. 00-8652 Filed 4-6-00; 8:45 am]

BILLING CODE 4310-70-P